ENVIRONMENTAL PROTECTION AGENCY

[FRL-8973-9]

Science Advisory Board Staff Office; Notification of a Public Teleconference of the Science Advisory Board Drinking Water Committee

AGENCY: Environmental Protection Agency (EPA).

ACTION: Notice.

SUMMARY: The EPA Science Advisory Board (SAB) Staff Office announces a public teleconference of the SAB Drinking Water Committee (DWC) to finalize its draft advisory report on EPA's Microbial Risk Assessment Protocol to Support Human Health Protection for Water-Based Media.

DATES: The SAB DWC will conduct a public teleconference on November 19, 2009. The teleconference will begin at 1 p.m. and end at 4 p.m. (Eastern Time).

ADDRESSES: The teleconference will be conducted by telephone only.

FOR FURTHER INFORMATION CONTACT: Any member of the public wishing to obtain general information concerning the public teleconference may contact Mr. Aaron Yeow, Designated Federal Officer (DFO), via telephone at (202) 343-9878 or e-mail at yeow.aaron@epa.gov. General information concerning the EPA Science Advisory Board can be found on the EPA Web site at http://www.epa.gov/sab.

SUPPLEMENTARY INFORMATION: Pursuant to the Federal Advisory Committee Act, 5 U.S.C., App. 2 (FACA), notice is hereby given that the SAB Drinking Water Committee will hold a public teleconference to discuss and finalize their draft advisory report on EPA's Microbial Risk Assessment Protocol to Support Human Health Protection for Water-Based Media. The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

Background: EPA's Office of Water conducts microbial risk assessments as part of its responsibility for protecting human health and the environment from contaminants in water. The Office of Water has developed a draft document, Microbial Risk Assessment Protocol to Support Human Health Risk Assessment for Water-Based Media to provide guidance for performing these assessments. The Office of Water has requested that the SAB provide advice on the draft protocol, including recommendations on how to improve the overall approach, the applicability of the protocol, the reasonableness of the protocol, the clarity of the protocol, the completeness and robustness of the protocol, and the ease of use of the protocol for conducting water-based microbial risk assessments.

The SAB DWC met on September 21-22, 2009 to review the EPA document [see Federal Register Notice dated August 18, 2009 (74 FR 41697-41698)]. Materials from the September meeting are posted on the SAB Web site at http://yosemite.epa.gov/sab/SABPRODUCT.NSF/MeetingCal/67921B908251CE9C8525760A004C1F87?OpenDocument. The purpose of this upcoming teleconference is for the DWC to complete its draft report. The draft Committee report will be submitted to the chartered SAB for their consideration and approval. Additional information about this advisory activity can be found on the SAB Web site at http://www.epa.gov/sab. A meeting agenda and the draft SAB review report will be posted at the above noted SAB Web site prior to the meeting.

Availability of Meeting Materials: Agendas and materials in support of the teleconference will be placed on the SAB Web site at http://www.epa.gov/sab in advance of the teleconference. For technical questions and information concerning EPA's draft document, please contact Dr. Stephen Schaub at (202) 566-1126, or schaub.stephen@epa.gov.

Procedures for Providing Public Input: Interested members of the public may submit relevant written or oral information for the SAB DWC to consider during the advisory process. Oral Statements: In general, individuals or groups requesting an oral presentation at a public teleconference will be limited to three minutes per speaker, with no more than a total of one hour for all speakers. Each person making an oral statement should consider providing written comments as well as their oral statement so that the points presented orally can be expanded upon in writing. Interested parties should contact the DFO, in writing (preferably via e-mail) at the contact information noted above, by November 13, 2009 to be placed on the list of public speakers for the meeting. Written Statements: Written statements should be received in the SAB Staff Office by November 13, 2009 so that the information may be made available to the Committee members for their consideration. Written statements should be supplied to the DFO in the following formats: One hard copy with original signature, and one electronic copy via e-mail (acceptable file format: Adobe Acrobat PDF, MS Word, MS PowerPoint, or Rich Text files in IBM-PC/Windows 98/2000/XP format). Submitters are requested to provide versions of each document submitted with and without signatures, because the SAB Staff Office does not publish documents with signatures on its Web sites.

Accessibility: For information on access or services for individuals with disabilities, please contact Mr. Aaron Yeow at (202) 343-9878 or yeow.aaron@epa.gov. To request accommodation of a disability, please contact Mr. Yeow preferably at least ten days prior to the teleconference to give EPA as much time as possible to process your request.

Dated: October 20, 2009.
Anthony Maciorowski,
Deputy Director, EPA Science Advisory Staff Office.

[FR Doc. E9-25742 Filed 10-23-09; 8:45 am]

BILLING CODE 6560-50-P